FEDERAL COMMUNICATIONS COMMISSION

Satellite Network Stations and Space Stations

AGENCY: Federal Communications Commission.

ACTION: Announcement of effective date.

SUMMARY: The Federal Communications Commission (FCC) received Office of Management and Budget (OMB) approval on March 16, 2007 for a revision to the public information collection requirements contained in the FCC's part 25 of the Commission's Rules Governing the Licensing of, and Spectrum Usage by, Satellite Network Stations and Space Stations, OMB Control Number 3060-0678, pursuant to the requirements of the Paperwork Reduction Act of 1995, Public Law 104-13. An agency may not conduct or sponsor and a person is not required to respond to a collection of information unless it displays a currently valid control number.

DATES: The FCC's Form 312, revised as set forth in 71 FR 62463, Oct. 25, 2006, took effect on April 16, 2007.

FOR FURTHER INFORMATION CONTACT: Steven Spaeth, International Bureau, Satellite Division, 445 12th Street, SW., Washington, DC 20554, at (202) 418-1539, or Paul Noone, International Bureau, Satellite Division, 445 12th Street, SW., Washington, DC 20554, at (202) 418-7945. For additional information concerning the Paperwork Reduction Act information collection requirements, contact Judith B. Herman at (202) 418-0124, or via the Internet at Judith-B.Herman@fcc.gov.

SUPPLEMENTARY INFORMATION: The Commission revised OMB Control No. 3060-0678 to add a certification to the Application for Satellite Space and Earth Station Authorizations (FCC Form 312) so that satellite applicants subject to geographic rules can check a box certifying that they will comply with those rules. Currently, section 25.148(c) of the Commission's rules requires Direct Broadcast Satellite (DBS) operators to provide service to Alaska and Hawaii if “technically feasible,” or to provide a technical analysis showing that such service is not technically feasible. In addition, some Mobile Satellite Service (MSS) operators and Non-geostationary Satellite Orbit Fixed Satellite Service (NGSO FSS) operators have similar geographic coverage requirements. For example, Ka-band NGSO FSS systems must provide service between 70 degrees North Latitude and 55 degrees South Latitude for at least 75 percent of every 24-hour period in accordance with section 25.145(c)(1) of the Commission's rules. Finally, this certification will also apply to geographic service rules that take effect in the future.

The addition of the certification will require modification of the FCC Form 312 which is housed in the International Bureau Filing System (“MyIBFS”), an electronic filing system. In 2005, the Commission received approval from the Office of Management and Budget (OMB) for mandatory electronic filing of all satellite and earth station applications. Therefore, all certifications must be filed with the Commission electronically in MyIBFS.

This collection is used by the Commission staff in carrying out its duties concerning satellite communications as required by sections 301, 308, 309 and 310 of the Communications Act, 47 U.S.C. sections 301, 308, 309, 310. This collection is also used by the Commission staff in carrying out its duties under the World Trade Organizations (WTO) Basic Telecom Agreement. The information collection requirements accounted for in this collection are necessary to determine the technical and legal qualifications of applicants or licensees to operate a station, transfer or assign a license, and to determine whether the authorization is in the public interest, convenience and necessity. Without such information, the Commission could not determine whether to permit respondents to provide telecommunication services in the U.S. Therefore, the Commission would be unable to fulfill its statutory responsibilities in accordance with the Communications Act of 1934, as amended, and the obligations imposed on parties to the WTO Basic Telecom Agreement.

Federal Communications Commission.
Marlene Dortch,
Secretary.

[FR Doc. E7-9335 Filed 5-15-07; 8:45 am]

BILLING CODE 6712-01-P